DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Survey of Single State Authorities Regarding the HIV Set-Aside of the Substance Abuse Prevention and Treatment Block Grant—NEW

The Substance Abuse and Mental Health Services Administration's (SAMHSA), Center for Substance Abuse Treatment (CSAT) administers the Substance Abuse Prevention and Treatment (SAPT) Block Grant. This is a major source of funding for substance abuse activities in 60 jurisdictions, including all States and Territories. As part of the SAPT Block Grant, States with an AIDS case rate of 10 per 100,000 of population are required to set-aside a portion of SAPT Block Grant funding for early Human Immunodeficiency Virus (HIV) intervention. States that qualify are required to expend 2-5 percent of their yearly SAPT Block Grant funding on HIV Early Intervention Services (EIS) projects.

The purpose of the survey is to assess the status of HIV Services in substance abuse treatment systems in the States and Territories; including how HIV Set-Aside funds are being utilized, and what results are being accomplished through EIS, including counseling, testing, and treatment, and staff and program development. A questionnaire will be sent to the director of each Single State Authority for the SAPT Block Grant in the 60 States and Territories, with responses expected over a two-week period.

Below is the table of the estimated total burden hours:

Respondent | Number of respondents | Number of responses per respondent | Average burden hour | Estimated total burden (hours)
State Manager | 60 | 1 | 1 | 60

Send comments to Summer King, SAMHSA Reports Clearance Officer, Room 71-1045, One Choke Cherry Road, Rockville, MD 20857. Written comments should be received within 60 days of this notice.

Dated: March 4, 2005.
Patricia S. Bransford,
Acting Executive Officer, SAMHSA.

[FR Doc. 05-4681 Filed 3-9-05; 8:45 am]

BILLING CODE 4162-20-P